DEPARTMENT OF JUSTICE

Drug Enforcement Administration

Import of Controlled Substances; Notice of Registration

By notice dated April 24, 2002, and published in the Federal Register on May 17, 2002 (67 FR 35136), Salsbury Chemicals, Inc., 1205 11th Street, Charles City, Iowa 50616-3466, made application to the Drug Enforcement Administration (DEA) to be registered as an importer of phenylacetone (8501), a basic class of controlled substance listed in Schedule II. The firm's legal name has since changed to Cambrex Charles City, Inc.

The firm plans to import phenylacetone to manufacture amphetamine for distribution to its customers.

Objections and a request for hearing were timely filed and then withdrawn. DEA has considered the factors in title 21, United States Code, section 823(a) and determined that the registration of Salsbury Chemicals, Inc., is consistent with the public interest and with United States obligations under international treaties, conventions, or protocols in effect on May 1, 1971, at this time. DEA has investigated Salsbury Chemicals, Inc. (now Cambrex Charles City, Inc.) to ensure that the company's continued registration is consistent with the public interest. This investigation included inspection and testing of the company's physical security system, verification of the company's compliance with state and local laws, and a review of the company's background and history. Therefore, pursuant to section 1008(a) of the Controlled Substances Import and Export Act and in accordance with title 21, Code of Federal Regulations, section 1301.34, the above firm is granted registration as an importer of the basic class of controlled substance listed.

Dated: March 14, 2003.
Laura M. Nagel,
Deputy Assistant Administrator, Office of Diversion Control, Drug Enforcement Administration.

[FR Doc. 03-7837 Filed 4-1-03; 8:45 am]

BILLING CODE 4410-09-M